DEPARTMENT OF ENERGY

Secretary of Energy Advisory Board Natural Gas Subcommittee

AGENCY: Department of Energy.

ACTION: Notice of Cancellation of Open Meeting.

SUMMARY: This notice announces the cancellation of the November 1, 2011, meeting of the Secretary of Energy Advisory Board (SEAB) Natural Gas Subcommittee. The public meeting was scheduled to be held at the U.S. Department of Energy, 1000 Independence Avenue SW., Washington, DC 20585. The Federal Register notice announcing this meeting was published on Thursday, October 13, 2011, (76 FR 63613). Please note, the October 31, 2011, meeting will continue as scheduled. The Federal Advisory Committee Act (Pub. L. 92-463, 86 Stat. 770) requires that public notice of this meeting cancellation be announced in the Federal Register.

FOR FURTHER INFORMATION CONTACT: Renee Stone by email at: shalegas@hq.doe.gov.

Issued at Washington, DC, on October 25, 2011.
LaTanya R. Butler,
Acting Deputy Committee Management Officer.

[FR Doc. 2011-28058 Filed 10-28-11; 8:45 am]

BILLING CODE 6450-01-P